DEPARTMENT OF HOMELAND SECURITY

Coast Guard

33 CFR Chapter I

[USCG-2003-15771]

Exclusion Zones for Marine LNG Spills

AGENCY: Coast Guard, DHS.

ACTION: Request for public comments.

SUMMARY: The Coast Guard seeks public comments on a petition for rulemaking from the City of Fall River, Massachusetts. The petition requests regulations be promulgated that would establish thermal and vapor dispersion exclusion zones for marine spills of liquefied natural gas similar to those established by the Secretary of Transportation for spills of LNG on land.

DATES: Comments and related material must reach the docket management facility on or before February 1, 2005.

ADDRESSES: You may submit comments identified by Coast Guard docket number (USCG-2003-15771) to the Docket Management Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

(5) Federal eRulemaking Portal: http://www.regulations.gov.

FOR FURTHER INFORMATION CONTACT: If you have questions on this notice, please call Commander John Cushing at 202-267-1043, or e-mail JCushing@comdt.uscg.mil. If you have questions on viewing or submitting material to the docket, please call Ms. Andrea M. Jenkins, Program Manager, Docket Operations, telephone 202-366-0271.

SUPPLEMENTARY INFORMATION:

Public Participation and Request for Comments

We encourage you to respond to this notice by submitting comments and related materials. All comments received will be posted, without change, to http://dms.dot.gov and will include any personal information you have provided. We have an agreement with the Department of Transportation (DOT) to use their Docket Management Facility. Please see DOT's “Privacy Act” paragraph below.

Submitting comments: If you submit a comment, please include your name and address, identify the docket number for this notice (USCG-2003-15771), and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope.

Viewing comments and documents: To view comments or other material in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and purpose. The City of Fall River, Massachusetts is petitioning the Coast Guard to develop regulations relating to marine transportation of liquid natural gas (LNG). Specifically, the City requests promulgation of regulations to apply the same thermal and vapor dispersion exclusion zone requirements established by the Department of Transportation for LNG spills on land (49 CFR Parts 193.2057 and 193.2059), to LNG spills on water. The City's petition included expanded discussion on this issue and may be read in its entirety in the docket. The public is invited to review the material contained in the docket and submit relevant comments. The Coast Guard will consider the City's petition, any comments received from the public, and other information to determine whether or not to initiate the requested rulemaking.

Dated: October 22, 2004.
Joseph J. Angelo,
Director of Standards, Marine Safety, Security, and Environmental Protection, U.S. Coast Guard.

[FR Doc. 04-24454 Filed 11-2-04; 8:45 am]

BILLING CODE 4910-15-P